FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than September 6, 2016.

A Federal Reserve Bank of Dallas (Robert L. Triplett III, Senior Vice President) 2200 North Pearl Street, Dallas, Texas 75201-2272:

1. Edward B. Tomlinson, II, Rowlett, Texas, individually and as Voting Person under a Voting Agreement dated November 1, 2013 (the “Voting Agreement”), Charles S. Leis, Eagle, Idaho, individually and as Voting Person under the Voting Agreement, and the following parties to the Voting Agreement which constitutes a group of persons acting in concert: The Revocable Trust of Dorvin D. Leis, Kahului, Hawaii, Samuel S. Aguirre Revocable Living Trust, Alea, Hawaii, Paul R. Botts Revocable Living Trust, Kailua, Hawaii, James F. Bowen, Rockwall, Texas, H. Grady Chandler, Garland, Texas, Daniel R. Goodfellow, Wenatchee, Washington, J. Stephen Goodfellow, Wenatchee, Washington, the Goodfellow Main Trust fbo Chad S. Goodfellow, Wenatchee, Washington, the Goodfellow Main Trust fbo Chelsea D. Goodfellow, Wenatchee, Washington, Harvey C. King 1992 Revocable Living Trust, Kailua, Hawaii, Charles S. Leis, Eagle, Idaho, Stanley B. Leis, Eagle, Idaho, Stephen T. Leis, Kihei, Hawaii, Roger McArthur Revocable Living Trust, Wailuku, Hawaii, Linda Tomlinson Mitchell, Gun Barrel City, Texas, Jeffrey S. Moore, Lisle, Illinois, Jeffrey Soulier, Kihei, Hawaii, Edward B. Tomlinson, II, Rowlett, Texas, Brad Wagenaar, Honolulu, Hawaii, William W. Wilmore Revocable Trust, Kahului, Hawaii, and Sherry Wortham, Wills Point, Texas; to collectively control and retain 25 percent or more of the shares of Texas Brand Bancshares, Inc., and therefore indirectly, Texas Brand Bank, both of Garland, Texas.

Board of Governors of the Federal Reserve System, August 15, 2016.
Robert deV. Frierson,
Secretary of the Board.

[FR Doc. 2016-19735 Filed 8-17-16; 8:45 am]

BILLING CODE 6210-01-P